DEPARTMENT OF ENERGY

Federal Energy Regulatory Commission

[Project No. 4362-000]

Inman Mills; Notice of Authorization for Continued Project Operation

The Riverdale Hydroelectric Project No. 4362 is located on the Enoree River, in Spartanburg County, South Carolina. The minor license for Project No. 4362 was issued in September 1982 for a period ending August 31, 2012. The deadline for filing applications for a subsequent license was August 31, 2010. Inman Mills, the licensee for Project No. 4362, did not file an application for a subsequent license.¹ On August 31, 2010, Lockhart Power Company filed an application for a subsequent license for the project.²

¹ In 2006, Commission staff approved transfer of the license from Inman Mills to Riverdale Development Venture, LLC. 115 FERC ¶ 62,076 (2006). However, the 2006 order was rescinded in 2008 because the requirements for the transfer were never completed. 122 FERC ¶ 62,204 (2008).

² The application, docketed Project No. 13590, is pending before the Commission.

Section 15(a)(1) of the FPA, 16 U.S.C. 808(a)(1) (2006), requires the Commission, at the expiration of a license term, to issue from year-to-year an annual license to the then licensee under the terms and conditions of the prior license until a new license is issued, or the project is otherwise disposed of as provided in section 15 or any other applicable section of the FPA. If, as is the case here, the project's prior license waived the applicability of section 15 of the FPA, then, based on section 9(b) of the Administrative Procedure Act, 5 U.S.C. 558(c) (2006), and as set forth at 18 CFR 16.21(b), if, as is also the case here, the licensee of such project has not filed an application for a subsequent license, the licensee may be required to continue to operate the project in accordance with the terms and conditions of the license after the minor license expires, until the Commission issues someone else a license for the project or otherwise orders disposition of the project.

Notice is hereby given that Inman Mills is authorized to continue operation of the Riverdale Hydroelectric Project, until such time as the Commission issues someone else a license for the project or otherwise orders disposition of the project.

Dated: September 12, 2012.
Kimberly D. Bose,
Secretary.

[FR Doc. 2012-23025 Filed 9-18-12; 8:45 am]

BILLING CODE 6717-01-P